ENVIRONMENTAL PROTECTION AGENCY

[ER-FRL-6250-9]

Environmental Impact Statements; Notice of Availability

Responsible Agency: Office of Federal Activities, General Information, (202) 564-7167 OR www.epa.gov/ocea/ofa.

Weekly Receipt of Environmental Impact Statements Filed January 31, 2000 Through February 04, 2000 Pursuant to 40 CFR 1506.9

EIS No. 000028, Draft EIS, BLM, NV, Marigold Mine Expansion Project, Implementation, COE Section 404 Permit, Special-Use-Permit, Humboldt County, NV, Due: April 10, 2000, Contact: Gerald Moritz (775) 623-1500.

EIS No. 000029, Final EIS, FHW, IN, IN-641 Terre Haute Bypass, Improve access between US 41 South to I-70 East of Terre Haute, Funding and COE Section 404 Permit, Vigo County, IN, Due: March 13, 2000, Contact: John R. Baxter (317) 226-7425.

EIS No. 000030, Final EIS, FHW, PA, Marshalls Creek Traffic Relief Study, Construction, Connector between PA-209, Business 209 and PA-402, COE Section 404 and NPDES Permits, Monroe County, PA, Due: March 13, 2000, Contact: David C. Lawton (717) 221-3461.

EIS No. 000031, Final EIS, FRC, MT, ID, Cabinet Gorge (No. 2058-014) and Noxon Rapids (No. 2075-014) Hydroelectric Project, Relicensing, MT and ID, Due: March 13, 2000, Contact: Bob Easton (202) 219-2782.

EIS No. 000032, Draft EIS, NPS, MT, Lake McDonald/Park Headquarters Wastewater Treatment System Rehabilitation, Implementation, COE Section 404 Permit, Glacier National Park, A Portion of Waterton-Glacier International Peace Park, Flathead and Glacier Counties, MT, Due: March 31, 2000, Contact: Mary Riddle (406) 888-7898.

EIS No. 000033, Draft EIS, AFS, WA, Deadman Creek Ecosystem Management Projects, Implementation, Kettle Falls Ranger District, Colville National Forest, Ferry County, WA, Due: March 30, 2000, Contact: Wade Spang (509) 738-6111.

Dated: February 8, 2000.
B. Katherine Biggs,
Associate Director, NEPA Compliance Division, Office of Federal Activities.

[FR Doc. 00-3198 Filed 2-10-00; 8:45 am]

BILLING CODE 6560-50-P